DEPARTMENT OF HEALTH AND HUMAN SERVICES

Centers for Disease Control and Prevention

[30Day-14-0895]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Community-based Organization (CBO) Monitoring and Evaluation Project (CMEP) of RESPECT (CMEP-RESPECT) (OMB No. 0920-0895, expires 8/31/2014)—Extension—National Center for HIV/AIDS, Viral Hepatitis, STD, and TB Prevention (NCHHSTP), Centers for Disease Control and Prevention (CDC).

Background and Brief Description

CDC began formally partnering with CBOs in the late 1980s to expand the reach of HIV prevention efforts. CBOs were, and continue to be, recognized as important partners in HIV prevention because of their history and credibility with target populations and their access to groups that may not be easily reached. Over time, CDC's program for HIV prevention by CBOs has grown in size, scope, and complexity to respond to changes in the epidemic, including the diffusion and implementation of Effective Behavioral Interventions (EBIs) for HIV prevention.

CDC's EBIs have been shown to be effective under controlled research environments, but there is limited data on intervention implementation and client outcomes in real-world settings (as implemented by CDC-funded CBOs). The purpose of CMEP is to improve the performance of CDC-funded CBOs delivering particular individual- or group-level behavioral interventions. This is done by monitoring changes in clients' self-reported HIV transmission risk behaviors after participating in the intervention.

CDC funded four (4) CBOs to participate in CMEP-Respect for five (5) years (September 2010-August 2015). CDC funded CMEP-Respect for five (5) years (September 2010-August 2015). From April 1, 2012 through April 30, 2014 baseline surveys were conducted with an estimated 871 participants; 90-day follow up surveys were completed with 576 participants, and 180-day follow up surveys were completed with 484 participants.

CDC is requesting additional time to complete follow up surveys at 90- and 180-days for participants completing the intervention on or before 8/31/2014. Following their participation in the Respect intervention, participants will complete an 18 minute, self-administered, computer based interview at two follow-up time points (90- and 180-days following the Respect intervention) to assess their HIV-related attitudes and behavioral risks. CBOs will be expected to retain 80% of these participants at both follow-up interviews. CBO agency staff will submit data files to CDC monthly. It is estimated it will take 5 minutes to upload to the CDC's Secure Data Network (SDN).

Throughout the project, funded CBOs will be responsible for managing the daily procedures of CMEP-Respect to ensure that all required activities are performed, all deadlines are met, and quality assurance plans, policies and procedures are upheld. CBOs will be responsible for participating in all CDC-sponsored grantee meetings related to CMEP-Respect. The total estimated annual burden hours are 200.

Estimated Annualized Burden Hours
Type of respondents | Form name | Number of respondents | Number of responses per respondent | Average burden per response (in hrs)
General population | 90-Day Follow-Up Survey | 320 | 1 | 18/60
CMEP-Respect grantees | 90-Day SDN Submission | 4 | 12 | 5/60
General Population | 180-day Follow-up Survey | 320 | 1 | 18/60
CMEP-Respect grantees | 180-Day SDN Submission | 4 | 12 | 5/60

Leroy Richardson,
Chief, Information Collection Review Office, Office of Scientific Integrity, Office of the Associate Director for Science, Office of the Director, Centers for Disease Control and Prevention.

[FR Doc. 2014-13396 Filed 6-9-14; 8:45 am]

BILLING CODE 4163-18-P